DEPARTMENT OF ENERGY

Proposed Agency Information Collection

AGENCY: U.S. Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 2, 2008. If you anticipate difficulty in submitting comments within that period, contact the person listed in ADDRESSES as soon as possible.

ADDRESSES: Written comments may be sent to JoAnna Sellen, Office of International Regimes and Agreements (NA-243), National Nuclear Security Administration, 1000 Independence Ave., SW., Washington, DC 20585 or by fax at 202-586-1348, or by e-mail at Joanna.Sellen@nnsa.doe.gov.

FOR FURTHER INFORMATION CONTACT: Requests for additional information or copies of the information collection instrument and instructions should be directed to the person listed in ADDRESSES.

SUPPLEMENTARY INFORMATION: This package contains: (1) OMB No. {enter “New}; (2) Information Collection Request Title: U.S. Declaration under the Protocol Additional to the U.S.-IAEA Safeguards Agreement (“Additional Protocol”), and Collection of Information by the Department of Energy; (3) Type of Review: New; (4) Purpose: Develop Information for Inclusion by the Department of Energy in the United States Declaration to the International Atomic Energy Agency (IAEA) under the Additional Protocol to the U.S.-IAEA International Safeguards Agreement.

This proposed collection of information is pursuant to implementing the provisions of the Protocol Additional to the Agreement Between the United States of America and the IAEA for the Application of Safeguards in the United States of America (the “Additional Protocol” or “AP”). The Additional Protocol is a supplement to the existing U.S.-IAEA Safeguards Agreement, which entered into force in 1980; once the U.S. AP enters into force, it will become part of the Safeguards Agreement. The United States signed the U.S. AP in 1998, President Bush submitted it to the Senate on May 9, 2002 for the Senate's advice and consent to ratification, and the Senate approved a resolution providing such advice and consent on March 31, 2004. Legislation to implement the U.S. AP was enacted on December 18, 2006. Entry into force of the U.S. AP will take place when the President deposits the instrument of ratification with the IAEA.

The Department of Energy is the Lead Agency for implementing the Additional Protocol at locations owned, operated, or leased by or for DOE, including Nuclear Regulatory Commission (NRC)-licensed or certified activities on DOE installations, and, in coordination with the Department of Defense, non-military locations on installations that store or process naval reactor fuel (collectively known as “DOE Locations”). This collection of information affects only those persons performing activities at DOE Locations that would be declarable to the IAEA under the U.S. AP. The NRC is the Lead Agency for locations that are subject to the regulatory authority of the NRC, pursuant to the NRC's regulatory jurisdiction under the Atomic Energy Act of 1954, as amended (42 U.S.C. 2011 et seq.), with the exception of those NRC-licensed or certified activities at DOE Locations. The Department of Commerce (DOC) is the Lead Agency for all other locations in the United States, except U. S. Government locations and those locations for which the NRC is the Lead Agency. All persons, including DOE contractors performing declarable activities at locations other than those for which DOE is the Lead Agency, would submit their declarations for these activities at non-DOE Locations to either the NRC or DOC, as appropriate.

The Department of Energy proposes to collect information that is required for submission under the U.S. AP. Collecting this information from those entities that are actually performing declarable activities at DOE Locations provides the most effective and efficient way for DOE to identify such declarable activities and the locations associated with such activities, and to assemble accurate and timely information on such activities.

All reporting requirements that are applicable to respondents making their declarations through DOE can be found in Article 2.a of the U.S. AP. These activities are considered to be funded, specifically authorized or controlled by, or carried out on behalf of, the United States, by virtue of the fact that the Department of Energy, as an agency of the U.S. Government, controls all activities, regardless of performer, that occur at its installations.

(5) Respondents: Respondents will primarily include DOE Management and Operations (M&O) contractors operating DOE installations and facilities. DOE estimates that 10-15 respondents will submit declarations under the U.S. AP; however, the number will fluctuate on an annual basis. Because any person performing a declarable activity at a location for which DOE is the Lead Agency must report that activity through DOE, and because the identity of such persons might change from year to year as declarable activities are initiated or terminated, DOE cannot estimate with certainty the total number of respondents subject to this collection of information. Likewise, it cannot estimate with certainty the number of small businesses, if any, that would be affected by this collection.

(6) Estimated Number of Burden Hours: The burden in person-hours of responding to the proposed collection of information will depend on the number of declarable activities at the respondent's location. This effort might range from as low as 40 hours, for a location with one or two declarable activities, to as many as 400 hours, for a location with 30-40 declarable activities. This effort includes annual effort expended in maintaining and training on using the software provided by DOE to assemble and report the information as well as making the declaration.

Statutory Authority: Public Law 109-401 (December 18, 2006).

Issued in Washington, DC on March 27, 2008.
Adam M. Scheinman,
Assistant Deputy Administrator for Nonproliferation and International Security.

[FR Doc. E8-6905 Filed 4-2-08; 8:45 am]

BILLING CODE 6450-01-P